DEPARTMENT OF DEFENSE

Department of the Air Force

US Air Force Scientific Advisory Board Notice of Meeting

AGENCY: Department of the Air Force, US Air Force Scientific Advisory Board.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take place on Wednesday and Thursday, October 7th-October 8th, 2009 at the SAF/AQ Conference and Innovation Center, 1560 Wilson Blvd., Arlington, VA 22209. The meeting on Wednesday, October 7th, will be from 8 a.m.-4:30 p.m., and the meeting on Thursday, October 8th, will be from 7:45 a.m.-12:15 p.m.

The purpose of this Air Force Scientific Advisory Board quarterly meeting is to introduce the FY10 SAB study topics tasked by the Secretary of the Air Force and receive presentations that address relevant subjects to the SAB mission. The briefings and discussion will include presentations from senior Air Force and other DoD leadership. Pursuant to 5 U.S.C. 552b, as amended, and 41 CFR 102-3.155, the Administrative Assistant of the Air Force, in consultation with the Office of the Air Force General Counsel, has determined in writing that the public interest requires that some sessions of the United States Air Force Scientific Advisory Board meeting be closed to the public because they will be concerned with classified information and matters covered by sections 5 U.S.C. 552b(c)(1) and (4). The two sessions on 7 Oct 09, from 0800-0945, will be open to the general public. The remaining sessions on 7 Oct 09 and 8 Oct 09 will be closed to the general public.

Because the meeting will take place in a controlled facility and seating is limited, any member of the general public wishing to attend the 7 Oct 09, 0800-0945, sessions need to call 301-981-7147 and provide their name not later than Monday, 5 Oct 09. You will need to arrive at the meeting facility between 7:30 a.m. and 7:45 a.m. that morning and have valid government identification in your possession.

Any member of the public wishing to provide input to the United States Air Force Scientific Advisory Board can also submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Anthony M. Mitchell, 301-981-7135, United States Air Force Scientific Advisory Board, 1602 California Avenue, Suite #251, Andrews AFB, MD 20762, AnthonyM.mitchell@pentagon.af.mil.

Bao-Anh Trinh,
Air Force Federal Register Liaison Officer.

[FR Doc. E9-21512 Filed 9-4-09; 8:45 am]

BILLING CODE 5001-05-P